NUCLEAR REGULATORY COMMISSION

Issuance and Availability of Draft Regulatory Guide, DG-5026, and Cancellation of Public Meeting

AGENCY: Nuclear Regulatory Commission.

ACTION: Rescheduling of Public Meeting Associated with Notice of Issuance and Availability of Draft Regulatory Guide (DG) 5026.

FOR FURTHER INFORMATION CONTACT: Valerie Barnes, U.S. Nuclear Regulatory Commission, Washington, DC 20555-0001, telephone: (301) 415-5944 or e-mail to Valerie.Barnes@nrc.gov.

SUPPLEMENTARY INFORMATION:

I. Introduction

The public meeting announced in 73 FR 56618 on September 29, 2008, has been cancelled and will be rescheduled for a later date. The public should go to the U.S. Nuclear Regulatory Commission's (NRC's) NRC's Web site at http://www.nrc.gov/public-involve.html and watch for an announcement of the rescheduled public meeting.

Also in 73 FR 56618, the NRC noticed the issuance and availability of DG-5026, “Fatigue Management for Nuclear Power Plant Personnel,” for public comment. This regulatory guide provides a method that the staff of the NRC considers acceptable for complying with the Commission's regulations for managing personnel fatigue at nuclear power plants.

The regulations established by the NRC in Title 10, Part 26, of the Code of Federal Regulations (10 CFR Part 26), “Fitness for Duty Programs,” establish requirements for ensuring that personnel are fit to safely and competently perform their duties. Subpart I, “Managing Fatigue,” of 10 CFR Part 26 establishes requirements for managing personnel fatigue at nuclear power plants. The regulations in Subpart I provide a comprehensive and integrated approach to fatigue management, taking into account the multiple causes and effects of worker fatigue. The Commission recognizes that the potential for excessive fatigue is not solely based on extensive work hours, but also on other causal factors, such as stressful working conditions, sleep disorders, accumulation of sleep debt and the disruptions of circadian rhythms associated with shift work. These considerations are reflected in the requirements of the rule in order to ensure that licensees effectively manage worker fatigue and provide reasonable assurance that workers are able to safely and competently perform their duties.

II. Further Information

The NRC staff is soliciting comments on DG-5026. Comments may be accompanied by relevant information or supporting data, and should mention DG-5026 in the subject line. Comments submitted in writing or in electronic form will be made available to the public in their entirety through the NRC's Agencywide Documents Access and Management System (ADAMS).

Personal information will not be removed from the comments. Comments may be submitted by any of the following methods:

1. Mail to: Rulemaking, Directives, and Editing Branch, Office of Administration, U.S. Nuclear Regulatory Commission, Washington, DC 20555-0001.

2. E-mail to: nrcrep.resource@nrc.gov

3. Hand-deliver to: Rulemaking, Directives, and Editing Branch, Office of Administration, U.S. Nuclear Regulatory Commission, 11555 Rockville Pike, Rockville, Maryland 20852, between 7:30 a.m. and 4:15 p.m. on Federal workdays.

4. Fax to: Rulemaking, Directives, and Editing Branch, Office of Administration, U.S. Nuclear Regulatory Commission at (301) 415-5144.

Requests for technical information about DG-5026 may be directed to Valerie Barnes at (301) 415-5944 or e-mail to Valerie Barnes.

Comments would be most helpful if received by October 31, 2008. Comments received after that date will be considered if it is practical to do so, but the NRC is able to ensure consideration only for comments received on or before this date. Although a time limit is given, comments and suggestions in connection with items for inclusion in guides currently being developed or improvements in all published guides are encouraged at any time.

Electronic copies of DG-5026 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML081960515.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 30th day of September 2008.
For the Nuclear Regulatory Commission.
Andrea D. Valentin,
Chief, Regulatory Guide Development Branch, Division of Engineering, Office of Nuclear Regulatory Research.

[FR Doc. E8-23514 Filed 10-3-08; 8:45 am]

BILLING CODE 7590-01-P